DEPARTMENT OF DEFENSE

Office of the Secretary

[Transmittal No. 24-70]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-70, Policy Justification, and Sensitivity of Technology.

Dated: November 14, 2025.
Aaron T. Siegel,
Alternate OSD Federal Register Liaison Officer, Department of Defense.

BILLING CODE 6001-FR-P

BILLING CODE 6001-FR-C

Transmittal No. 24-70

Notice of Proposed Issuance of Letter of Offer Pursuant to Section 36(b)(1) of the Arms Export Control Act, as amended

(i) Prospective Purchaser: Government of Germany

(ii) Total Estimated Value:

Major Defense Equipment * | $4.0 billion
Other | $1.0 billion
TOTAL | $5.0 billion

(iii) Description and Quantity or Quantities of Articles or Services under Consideration for Purchase:

Major Defense Equipment (MDE):

Six hundred (600) PATRIOT Advanced Capability-3 (PAC-3) Missile Segment Enhancement (MSE) missiles (includes ten (10) fly-to-buy missiles)

Non-Major Defense Equipment:

The following non-MDE items will also be included: tools and test equipment; range and test programs; support equipment; associated publications and technical documentation; training equipment; spare and repair parts; new equipment training; transportation; quality assurance team support; U.S. Government and contractor technical assistance, engineering, and logistics support services; systems integration and checkout; field office support; participation in the International Engineering Services Program and Field Surveillance Programs; launcher modification kits; MSE conversion kits; and other related elements of logistics and program support.

(iv) Military Department: Army (GY-B-XBY)

(v) Prior Related Cases, if any: GY-B-XAX, GY-B-XAV

(vi) Sales Commission, Fee, etc., Paid, Offered, or Agreed to be Paid: None

(vii) Sensitivity of Technology Contained in the Defense Article or Defense Services Proposed to be Sold: See Attached Annex

(viii) Date Report Delivered to Congress: August 15, 2024

* As defined in Section 47(6) of the Arms Export Control Act.

POLICY JUSTIFICATION

Germany—PATRIOT Advanced Capability-3 Missile Segment Enhancement Missiles

The Government of Germany has requested to buy six hundred (600) PATRIOT Advanced Capability-3 (PAC-3) Missile Segment Enhancement (MSE) missiles (includes ten (10) fly-to-buy missiles). The following non-MDE items will also be included: tools and test equipment; range and test programs; support equipment; associated publications and technical documentation; training equipment; spare and repair parts; new equipment training; transportation; quality assurance team support; U.S. Government and contractor technical assistance, engineering, and logistics support services; systems integration and checkout; field office support; participation in the International Engineering Services Program and Field Surveillance Programs; launcher modification kits; MSE conversion kits; and other related elements of logistics and program support. The estimated total cost is $5.0 billion.

This proposed sale will support the foreign policy and national security of the United States by improving the security of a NATO Ally that is an important force for political and economic stability in Europe.

The proposed sale will improve Germany's capability to meet current and future threats and increase the defensive capabilities of its military. It will support Germany's goal of improving national and territorial defense as well as interoperability with U.S. and NATO forces. Germany will have no difficulty absorbing this equipment into its armed forces.

The proposed sale of this equipment and support will not alter the basic military balance in the region.

The prime contractor will be Lockheed Martin, located in Dallas, TX. The purchaser typically requests offsets. Any offset agreement will be defined in negotiations between the purchaser and the contractor.

Implementation of this proposed sale will not require the assignment of any additional U.S. Government or contractor representatives to Germany.

There will be no adverse impact on U.S. defense readiness as a result of this proposed sale.

Transmittal No. 24-70

Notice of Proposed Issuance of Letter of Offer Pursuant to Section 36(b)(1) of the Arms Export Control Act

Annex Item No. vii

(vii) Sensitivity of Technology:

1. The PATRIOT Advanced Capability (PAC) 3 Missile Segment Enhancement missile is a small, highly agile, kinetic kill interceptor for defense against tactical ballistic missiles, cruise missiles, and air-breathing threats. The MSE variant of the PAC-3 missile represents the next generation in hit-to-kill interceptors and provides expanded battlespace against evolving threats. The PAC-3 MSE improves upon the original PAC-3 capability with a higher performance solid rocket motor, modified lethality enhancer, more responsive control surfaces, upgraded guidance software, and insensitive munitions improvements.

2. The highest level of classification of defense articles, components, and services included in this potential sale is CONFIDENTIAL.

3. If a technologically advanced adversary were to obtain knowledge of the specific hardware and software elements, the information could be used to develop countermeasures that might reduce weapon system effectiveness or be used in the development of a system with similar or advanced capabilities.

4. A determination has been made that the Government of Germany can provide substantially the same degree of protection for the sensitive technology being released as the U.S. Government. This sale is necessary in furtherance of the U.S. foreign policy and national security objectives outlined in the Policy Justification.

5. All defense articles and services listed in this transmittal have been authorized for release and export to the Government of Germany.

[FR Doc. 2025-20147 Filed 11-17-25; 8:45 am]

BILLING CODE 6001-FR-P